NUCLEAR REGULATORY COMMISSION

[Docket No. 50-305]

Wisconsin Public Service Corporation; Notice of Consideration of Issuance of Amendment to Facility Operating License DPR-43 Proposed No Significant Hazards Consideration Determination, and Opportunity for a Hearing

The U.S. Nuclear Regulatory Commission (the Commission) is considering issuance of amendment to Facility Operating License DPR-43 issued to Wisconsin Public Service Corporation (the licensee) for operation of the Kewaunee Nuclear Power Plant, located in Kewaunee County, Wisconsin.

The proposed amendment would change Technical Specification (TS) Section 4.2.b, “Steam Generator Tubes,” to extend the use of the length-based pressure boundary definition (L criterion) for the Westinghouse steam generator hybrid expansion joint sleeved tubes through the operating cycle 24 (approximately from May 2000 to Fall of 2001). The existing TS 4.2.b.4.c restricts use of L criterion to operating cycle 23 which is scheduled to end in mid-April 2000.

Before issuance of the proposed license amendment, the Commission will have made findings required by the Atomic Energy Act of 1954, as amended (the Act) and the Commission's regulations.

The Commission has made a proposed determination that the amendment request involves no significant hazards consideration. Under the Commission's regulations in 10 CFR 50.92, this means that operation of the facility in accordance with the proposed amendment would not (1) involve a significant increase in the probability or consequences of an accident previously evaluated; or (2) create the possibility of a new or different kind of accident from any accident previously evaluated; or (3) involve a significant reduction in a margin of safety. As required by 10 CFR 50.91(a), the licensee has provided its analysis of the issue of no significant hazards consideration, which is presented below:

1. Does operation of the facility with the proposed amendment involve a significant increase in the probability or consequences of an accident previously evaluated?

The extension of the L criterion for cycle 24 does not change the results of the structural testing performed in 1998. The physical characteristic (undegraded hardroll length) of the pressure boundary definition also does not change. The L criterion will continue to be implemented as described in the original, approved amendment. The conservatisms upon which NRC approval was based still exist. Therefore, the conservatisms still provide assurance that safety margins will continue to be met and uncertainties will remain acceptably low. Extending the use of the L criterion does not increase the probability of a MSLB [main steam line break] event. Based on the above, it may be concluded that application of the parent tube pressure boundary L criterion through cycle 24 will not result in a significant increase in the probability of an accident previously evaluated.

The conservatively bounding primary-to-secondary MSLB leak rate of 1 gpm [gallons-per-minute], which was approved for cycle 23, will continue to be applied to the calculation for postulated MSLB leakage for cycle 24. Application of this leak rate to the postulated leakage calculation will continue to ensure primary-to-secondary leakage will not exceed the current maximum allowable during a MSLB event. Maintenance of the current maximum allowable primary-to-secondary leak rate during a MSLB event ensures off-site doses will not exceed a small fraction of 10 CFR 100 and control room doses will not exceed GDC [General Design Criteria] -19 criteria. Therefore, it may be concluded that the application of the parent tube pressure boundary L criterion through cycle 24 will not increase the consequences of an accident previously evaluated.

2. Does operation of the facility with the proposed amendment create the possibility of a new or different kind of accident from any accident previously evaluated?

The extension of the L criterion through cycle 24 will not introduce a change to the design basis or operation of the plant. Neither the physical characteristics nor implementation of the L criterion has been changed. As determined in the original L criterion submittal, the continued implementation of a parent tube pressure boundary does not effect or interact with other portions of the reactor coolant system. Continued implementation of the L criterion does not effect any other tubes outside the repaired area or any other components. The qualification testing performed in 1998 remains valid and supports the conclusion that the joint retains structural integrity consistent with RG [Regulatory Guide]—1.121 and leakage integrity with regards to 10 CFR [Code of Federal Regulations] 100 and GDC-19. Any hypothetical accident as a result of PTIs [parent tube indications] left in service by the L criterion continues to be bounded by the existing tube rupture analysis. Therefore, application of the L criterion through cycle 24 will not create the possibility of a new or different kind of accident from any previously evaluated.

3. Does operation of the facility with the proposed amendment involve a significant reduction in a margin of safety?

The safety factors used to establish the L criterion continue to be consistent with safety factors in the ASME [American Society of Mechanical Engineers] Boiler and Pressure Vessel Code used in the SG [steam generator] design. Based on the sleeve-to-tube geometry, it is unrealistic to consider that application of L criterion could result in single tube leak rates exceeding the normal makeup capacity during normal operating conditions. The performance characteristics of postulated degraded HEJ [hybrid expansion joint] sleeves have been verified through testing to retain structural integrity and preclude significant leakage during both normal operating and MSLB conditions. Conservatisms that allowed approval of the L criterion for cycle 23 still exist and apply as discussed in the safety evaluation of this submittal. Leakage rates determined and approved for the original L criterion submittal will continue to be implemented. Therefore, there is not a significant reduction in the margin of safety for extension of the L criterion through cycle 24.

The NRC staff has reviewed the licensee's analysis and, based on this review, it appears that the three standards of 10 CFR 50.92(c) are satisfied. Therefore, the NRC staff proposes to determine that the amendment request involves no significant hazards consideration.

The Commission is seeking public comments on this proposed determination. Any comments received within 30 days after the date of publication of this notice will be considered in making any final determination.

Normally, the Commission will not issue the amendment until the expiration of the 30-day notice period. However, should circumstances change during the notice period such that failure to act in a timely way would result, for example, in derating or shutdown of the facility, the Commission may issue the license amendment before the expiration of the 30-day notice period, provided that its final determination is that the amendment involves no significant hazards consideration. The final determination will consider all public and State comments received. Should the Commission take this action, it will publish in the Federal Register a notice of issuance and provide for opportunity for a hearing after issuance. The Commission expects that the need to take this action will occur very infrequently.

Written comments may be submitted by mail to the Chief, Rules and Directives Branch, Division of Administrative Services, Office of Administration, U.S. Nuclear Regulatory Commission, Washington, DC 20555-0001, and should cite the publication date and page number of this Federal Register notice. Written comments may also be delivered to Room 6D59, Two White Flint North, 11545 Rockville Pike, Rockville, Maryland, from 7:30 a.m. to 4:15 p.m. Federal workdays. Copies of written comments received may be examined at the NRC Public Document Room, the Gelman Building, 2120 L Street, NW., Washington, DC.

The filing of requests for hearing and petitions for leave to intervene is discussed below.

By February 25, 2000, the licensee may file a request for a hearing with respect to issuance of the amendment to the subject facility operating license and any person whose interest may be affected by this proceeding and who wishes to participate as a party in the proceeding must file a written request for a hearing and a petition for leave to intervene. Requests for a hearing and a petition for leave to intervene shall be filed in accordance with the Commission's “Rules of Practice for Domestic Licensing Proceedings” in 10 CFR Part 2. Interested persons should consult a current copy of 10 CFR 2.714 which is available at the Commission's Public Document Room, the Gelman Building, 2120 L Street, NW., Washington, DC, and accessible electronically through the ADAMS Public Electronic Reading Room link at the NRC Web site (http://www.nrc.gov). If a request for a hearing or petition for leave to intervene is filed by the above date, the Commission or an Atomic Safety and Licensing Board, designated by the Commission or by the Chairman of the Atomic Safety and Licensing Board Panel, will rule on the request and/or petition; and the Secretary or the designated Atomic Safety and Licensing Board will issue a notice of hearing or an appropriate order.

As required by 10 CFR 2.714, a petition for leave to intervene shall set forth with particularity the interest of the petitioner in the proceeding, and how that interest may be affected by the results of the proceeding. The petition should specifically explain the reasons why intervention should be permitted with particular reference to the following factors: (1) the nature of the petitioner's right under the Act to be made party to the proceeding; (2) the nature and extent of the petitioner's property, financial, or other interest in the proceeding; and (3) the possible effect of any order which may be entered in the proceeding on the petitioner's interest. The petition should also identify the specific aspect(s) of the subject matter of the proceeding as to which petitioner wishes to intervene. Any person who has filed a petition for leave to intervene or who has been admitted as a party may amend the petition without requesting leave of the Board up to 15 days prior to the first prehearing conference scheduled in the proceeding, but such an amended petition must satisfy the specificity requirements described above.

Not later than 15 days prior to the first prehearing conference scheduled in the proceeding, a petitioner shall file a supplement to the petition to intervene which must include a list of the contentions which are sought to be litigated in the matter. Each contention must consist of a specific statement of the issue of law or fact to be raised or controverted. In addition, the petitioner shall provide a brief explanation of the bases of the contention and a concise statement of the alleged facts or expert opinion which support the contention and on which the petitioner intends to rely in proving the contention at the hearing. The petitioner must also provide references to those specific sources and documents of which the petitioner is aware and on which the petitioner intends to rely to establish those facts or expert opinion. Petitioner must provide sufficient information to show that a genuine dispute exists with the applicant on a material issue of law or fact. Contentions shall be limited to matters within the scope of the amendment under consideration. The contention must be one which, if proven, would entitle the petitioner to relief. A petitioner who fails to file such a supplement which satisfies these requirements with respect to at least one contention will not be permitted to participate as a party.

Those permitted to intervene become parties to the proceeding, subject to any limitations in the order granting leave to intervene, and have the opportunity to participate fully in the conduct of the hearing, including the opportunity to present evidence and cross-examine witnesses.

If a hearing is requested, the Commission will make a final determination on the issue of no significant hazards consideration. The final determination will serve to decide when the hearing is held.

If the final determination is that the amendment request involves no significant hazards consideration, the Commission may issue the amendment and make it immediately effective, notwithstanding the request for a hearing. Any hearing held would take place after issuance of the amendment.

If the final determination is that the amendment request involves a significant hazards consideration, any hearing held would take place before the issuance of any amendment.

A request for a hearing or a petition for leave to intervene must be filed with the Secretary of the Commission, U.S. Nuclear Regulatory Commission, Washington, DC 20555-0001, Attention: Rulemakings and Adjudications Staff, or may be delivered to the Commission's Public Document Room, the Gelman Building, 2120 L Street, NW., Washington, DC, by close of business on the above date. A copy of the petition should also be sent to the Office of the General Counsel, U.S. Nuclear Regulatory Commission, Washington, DC 20555-0001, and to Bradley D. Jackson, Esq., Foley and Lardner, P.O. Box 1497, Madison, WI 53701-1497, attorney for the licensee.

Nontimely filings of petitions for leave to intervene, amended petitions, supplemental petitions and/or requests for hearing will not be entertained absent a determination by the Commission, the presiding officer or the presiding Atomic Safety and Licensing Board that the petition and/or request should be granted based upon a balancing of the factors specified in 10 CFR 2.714(a)(1)(i)-(v) and 2.714(d).

For further details with respect to this action, see the application for amendment dated June 22, 1999, as supplemented January 17, 2000, which is available for public inspection at the Commission's Public Document Room, the Gelman Building, 2120 L Street, NW., Washington, DC, and accessible electronically through the ADAMS Public Electronic Reading Room link at the NRC Web site (http://www.nrc.gov).

Dated at Rockville, Maryland, this 20th day of January 2000.
For the Nuclear Regulatory Commission.
Claudia M. Craig,
Chief, Section 1, Project Directorate III, Division of Licensing Project Management, Office of Nuclear Reactor Regulation.

[FR Doc. 00-1812 Filed 1-25-00; 8:45 am]

BILLING CODE 7590-01-P